DEPARTMENT OF AGRICULTURE

Performance Review Board Appointments

AGENCY: Office of Human Resource Management, Departmental Management, USDA.

ACTION: Notice of appointment.

SUMMARY: This notice announces the appointment of the members of the Senior Executive Service (SES), Senior Level (SL), and Scientific or Professional (ST) Performance Review Boards (PRB) for the Department of Agriculture, as required by 5 U.S.C. 4314(c)(4). The PRBs are a group of executives responsible for the oversight of the performance management and compensation processes for SES employees. A PRB reviews the rating official's initial summary ratings of SES employees and makes recommendations for official ratings, performance awards, and base salary increases.

DATES: Effective November 7, 2011, through November 18, 2011.

FOR FURTHER INFORMATION CONTACT: Karen Messmore, Director, Office of Human Resources Management, telephone: (202) 690-2994, email: karen.messmore@dm.usda.gov, or Patricia Moore, Director, Executive Resources Division, telephone: (202) 720-8629, email: patty.moore@dm.usda.gov.

SUPPLEMENTARY INFORMATION: In accordance with 5 U.S.C. 4314(c)(4), the following executives are appointed by mission areas to the USDA, PRB: Pearlie S. Reed, Assistant Secretary for Administration.

Office of the Secretary (OSEC)

Baening, Brian; Bittleman, Sarah; Bonnie, Robert; Daschle, Lindsay; Gutter, Karis T.; Harden, Krysta; Hipp, Janie; Holtzman, Max T.; Jett, Carole E.; MacMillian, Anne; Mande, Jerold; Mills, Ann C.; Palmieri, Suzanne; Pfaeffle, Frederick; Willis, Brandon; Wright, Ann.

Departmental Management and Staff Offices (DM-SO)

Armstrong, Kent W.; Bange, Gerald A.; Baumes, Harry S.; Bender, Stuart; Bice, Donald; Black, David O.; Brady, Terence M.; Brewer, John; Bumbary Langston, Inga P.; Chasteen, G. Taylor; Christian, Lisa A.; Clanton, Michael W.; Davenport, Peter; Douglas, Walt; Foster, Andrea L.; Golden, John; Gonzales, Oscar; Grahn, David P.; Hawk, Gilbert; Hobbs, Alma; Hohenstein, William G.; Holladay, Jon; Jackson, Yvonne T.; Jenson, William; Jones, Carmen; Jones, Diem Linh L.; Kelley, James M.; Kelley, Janet K.; Leland, Arlean; Leonard, Joe; Linden, Ralph A.; Lowe, Christopher S.; Maddux, Sheryl; McClam, Charles; Messmore, Karen; Milton, William; Moulton, Robert J.; Paul, Matt; Repass, Todd; Robinson, Quentin; Romero, Ramona; Ruiz, Carl-Martin; Shaub, James D.; Shearer, David P.; Silverman, Steven; Smith, Christopher; Speed, Randy L.; Swenson, Richard; Wallace, Charles; Walsh, Thomas M.; Watts, Michael; White, John S.; White, Sharmian L.; Wilburn, Curtis; Wilusz, Lisa; Worthington, Ruth M.; Young, Benjamin; Young, Mike; Zehren, Christopher J.

Food Safety (FS) and Marketing and Regulatory Programs (MRP)

Avalos, Ed; Hagen, Elisabeth; Ronholm, Brian.

Agricultural Marketing Service

Bailey, Douglas; Barnes, Rex; Coale, Dana; Earnest, Darryl; Epstein, Robert; Keeney, Robert; King, Ellen; McEvoy, Miles; Morris, Craig; Neal, Arthur; Shipman, David.

Animal and Plant Health Inspection Service

Beach, Rebecca; Berger, Philip; Brown, Charles; Clark, Larry; Clay, William; Clifford, John; Coursey, Sharon; Diaz-Soltero, Hilda; Dick, Jere; Diez, Jose; Eggert, Paul; Garcia, Phillip; Gipson, Chester; Granger, Larry; Green, Jeffrey; Green, Alan; Gregoire, Michael; Harabin, Victor; Hicks, Ronald; Hill, Jr., Richard; Holland, Marilyn; Huttenlocker, Robert; Jones, Bethany; Kaplan, David; Lautner, Elizabeth; McCluskey, Brian; Mendoza, Jr., Martin; Morgan, Andrea; Munno, Joanne; Myers, Thomas; Parham, Gregory; Purcell, Roberta; Shea, A. Kevin; Shere, Jack; Simmons, Beverly; Smith, Cynthia; Thiermann, Alejandro B.; Zakarka, Christine.

Food Safety and Inspection Service (FSIS)

Almanza, Alfred; Carrasco, Lorena; Chen, Vivian; Derfler, Philip; Edelstein, Rachel; Engeljohn, Daniel; Hicks, Cheryl; James, William; Jones, Ronald; Lange, Loren; Nintemann, Terri; Petersen, Kenneth; Riggins, Judith; Roth, Jane; Smith, William; Stevens, Janet; Stuck, Karen; Tawardrous, Armia.

Grain Inspection, Packers and Stockyards Administration (GIPSA)

Butler, John; Christian, Alan; Jones, Randall.

Farm and Foreign Agricultural Services (FFAS)

Scuse, Michael; Vetter, Darci.

Foreign Agricultural Service (FAS)

Foster, Christian; Quick, Bryce; Nuzum, Janet; Riemenschneider, Robert; Sheikh, Patricia.

Farm Service Agency

Beyerhelm, Christopher; Cooksie, Carolyn; Harwood, Joy; Monahan, James; Nelson, Bruce; Short, Philip; Stephenson, Robert; Thompson, Candace; Wooden, Michael.

Risk Management Agency (RMA)

Alston, Michael; Hand, Michael; Leach, Barbara; Murphy, William; Witt, Timothy.

Food, Nutrition and Customer Services

Concannon, Kevin; Thornton, Jane; Alboum, Jonathan; Anand, Rajen; Arena-DeRosa, James; Arnette, Donald; Barnes, Darlene; Carlson, Steven; Holden, Ollice; Ludwig, William; Maupin, Gary; Ng, Allen; O'Connor, Thomas; Pino, Lisa; Rowe, Audrey; Shahin, Jessica; Tribiano, Jeffrey.

Rural Development (RD)

Tonsager, Dallas; Cook, Cheryl; O'Brien, Doug.

Rural Business Service (RBS)

Canales, Judith Ann; Hadjy, Pandor; Hagy, III, William; Wiley, Curtis A.

Rural Housing Service

Allen, Joyce; Banegas, Ronald; Burek, Linda; Davis, Richard; Glendenning, Roger; Hannah, Thomas; Hooper, Bryan; Jorstad, Van Blake; Parker, Chadwick; Ross, Robert; Thompson, Clyde; Trevino, Tammye.

Rural Utilities Service (RUS)

Ackerman, Kenneth; Bojes, Gary; Elgohary, Nivin; Newby, James; Ponti-Lazaruk, Jacqueline; Villano, David; Zufolo, Jessica.

Natural Resources and Environment (NRE)

Crandall, Doug; Sherman, Harris.

Forest Service (FS)

Agpaoa, Elizabeth; Bailey, Jr., Robin; Bedwell, James; Bryant, Arthur; Carmical, Donna M.; Cleaves, David A.; Coleman, Angela V.; Connaughton, Kent P.; DeCoster, Timothy P.; Dixon, Antione; Doudrick, Robert; Eav, Bov B.; Ferguson, Tony; Ferrell, David L.; Forsgren, Harvey L.; Foster, George S.; Guldin, Richard; Harbour, Thomas C.; Holtrop, Joel D.; Hubbard, James E.; Lugo, Ariel E.; Mangold, Robert D.; Mezainis, Valdis E.; Moore, Randy; Muse, Debra A.; Myers, Jr., Charles L.; Myers, Jacqueline; Nash, Douglas R.; Newman, Corbin L.; Pena, James M.; Pendeleton, Beth G.; Phipps, John E.; Rains, Michael T.; Reaves, Jimmy L.; Ries, Paul F.; Rodriguez-Franco, Carlos; Smith, Gregory C.; Stouder, Deanna J.; Thompson, Robin L.; Tidwell, Thomas; Tooke, Tony; Wagner, Mary A.; Weldon, Leslie; Zimmermann, Anne J.

Natural Resources Conservation Service (NRCS)

Burton, Lincoln; Christensen, Thomas; DuVarney, Andree; Erickson, Terrell; Gelburd, Diane; Golden, Micheal; Herbert, Noller; Honeycutt, C. Wayne; Hubbs, Michael; Jordan, Leonard; Kramer, Anthony; Kunze, Stephen; Lawrence, Douglas; Murphy, Virginia; Laur, Michele; Perry, Janet; Reed, Lesia; Salinas, Salvador; Speight, Eloris; Washington, Gary; Weller, Jason; White, Dave.

Research, Education and Economics (REE)

Bartuska, Ann; Jacobs-Young, Chavonda; Woteki, Catherine.

Agricultural Research Service (ARS)

Allen, Lindsay; Blackburn, Wilbert; Brennan, Deborah; Brenner, Richard; Chandler, Laurence; Cleveland, Thomas; Collins, Wanda; Erhan, Sevin; Gibson, Paul; Hammond, Andrew; Hefferan, Colien; Kappes, Steven; King, Jr., Edgar; Knipling, Edward; Kretsch, Mary; Kunickis, Sheryl; Liu, Simon; Matteri, Robert; McGuire, Michael; McMurtry, John; Narang, Sudhir; Pollak, Emil; Rexroad, Jr., Caird; Sebesta, Paul; Shafer, Steven; Shelton, Carol; Simmons, Mary W.; Spence, Joseph; St. John, Judith; Swietlik, Dariusz; Tu, Shu-I; Upchurch, Dan; Yates, Allison; Zhang, Howard; Zuelke, Kurt.

Economic Research Service (ERS)

Bianchi, Ronald; Bohman, Mary; Kort, John; Thompson, Sarahelen; Unnevehr, Laurian.

National Agricultural Statistics Service (NASS)

Bass, Robert; Bennett, Norman; Clark, Cynthia; Goodwin, Janice; Hamer, Jr., Hubert; Harris, James Mark; Picanso, Robin; Prusacki, Joseph; Reilly, Joseph; Valivullah, Michael.

National Institute of Food and Agriculture (NIFA)

Boteler, Franklin; Brandon, Andrea; Broussard, Meryl; Desbois, Michel; Otto, Ralph; Sheely, Deborah.

* * * * *

Signed in Washington, DC, this day: October 21, 2011.
Thomas J. Vilsack,
Secretary.

[FR Doc. 2011-28225 Filed 10-31-11; 8:45 am]

BILLING CODE 3410-XD-P